DEPARTMENT OF ENERGY

Federal Energy Regulatory Commission

Combined Notice of Filings #1

Take notice that the Commission received the following electric corporate filings:

Docket Numbers: EC18-89-000.

Applicants: CSOLAR IV South, LLC, CSOLAR IV WEST, LLC, CD Global Solar II CSolar Holdings, LLC.

Description: Joint Application for Approval Under Section 203 of the Federal Power Act and Request for Expedited Approval of CSOLAR IV South, LLC, et al.

Filed Date: 4/26/18.

Accession Number: 20180426-5174.

Comments Due: 5 p.m. ET 5/17/18.

Take notice that the Commission received the following electric rate filings:

Docket Numbers: ER12-1266-009.

Applicants: Midcontinent Independent System Operator, Inc.

Description: Clean-up filing regarding Order 745 to be effective 6/12/2012.

Filed Date: 4/26/18.

Accession Number: 20180426-5073.

Comments Due: 5 p.m. ET 5/17/18.

Docket Numbers: ER18-926-001.

Applicants: Southern California Edison Company.

Description: Tariff Amendment: Amended GIA Stanton Energy Reliability Center Project SA No. 999 to be effective 2/8/2018.

Filed Date: 4/26/18.

Accession Number: 20180426-5002.

Comments Due: 5 p.m. ET 5/17/18.

Docket Numbers: ER18-1294-001.

Applicants: Woomera Energy, LLC.

Description: Compliance filing: Woomera Market Based Rate Tariff to be effective 12/31/9998.

Filed Date: 4/26/18.

Accession Number: 20180426-5120.

Comments Due: 5 p.m. ET 5/17/18.

Docket Numbers: ER18-1441-000.

Applicants: Southern California Edison Company.

Description: § 205(d) Rate Filing: GIA and Distribution Service Agmt SCEBESS-017 Project to be effective 4/26/2018.

Filed Date: 4/25/18.

Accession Number: 20180425-5204.

Comments Due: 5 p.m. ET 5/16/18.

Docket Numbers: ER18-1442-000.

Applicants: Citizens Sycamore-Penasquitos Transmission LLC.

Description: Baseline eTariff Filing: Initial Transmission Owner Tariff Filing to be effective 12/31/9998.

Filed Date: 4/25/18.

Accession Number: 20180425-5211.

Comments Due: 5 p.m. ET 5/16/18.

Docket Numbers: ER18-1443-000.

Applicants: Midcontinent Independent System Operator, Inc., Michigan Electric Transmission Company, LLC.

Description: § 205(d) Rate Filing: 2018-04-25_SA 1756 METC-Consumers Energy 11th Rev GIA (G479B) to be effective 5/1/2018.

Filed Date: 4/25/18.

Accession Number: 20180425-5220.

Comments Due: 5 p.m. ET 5/16/18.

Docket Numbers: ER18-1444-000.

Applicants: PJM Interconnection, L.L.C.

Description: § 205(d) Rate Filing: Amendment to WMPA SA No. 4648; Queue No. AB2-057 (Consent to Assign) to be effective 3/2/2017.

Filed Date: 4/26/18.

Accession Number: 20180426-5074.

Comments Due: 5 p.m. ET 5/17/18.

Docket Numbers: ER18-1445-000.

Applicants: Idaho Power Company.

Description: Compliance filing: LGIA, LGIP, SGIA, and SGIP Modifications to be effective 6/25/2018.

Filed Date: 4/26/18.

Accession Number: 20180426-5102.

Comments Due: 5 p.m. ET 5/17/18.

Docket Numbers: ER18-1446-000.

Applicants: Avista Corporation.

Description: Tariff Cancellation: Avista Corp NITSA cancel to re-file to be effective 4/27/2018.

Filed Date: 4/26/18.

Accession Number: 20180426-5149.

Comments Due: 5 p.m. ET 5/17/18.

Docket Numbers: ER18-1447-000.

Applicants: Avista Corporation.

Description: § 205(d) Rate Filing: Avista Corp NITSA Re-filing to be effective 4/27/2018.

Filed Date: 4/26/18.

Accession Number: 20180426-5160.

Comments Due: 5 p.m. ET 5/17/18.

Docket Numbers: ER18-1448-000.

Applicants: PJM Interconnection, L.L.C.

Description: Compliance filing: Notice of Cancellation of ISA, Service Agreement No. 2381, NQ30 re: Deactivation to be effective N/A.

Filed Date: 4/26/18.

Accession Number: 20180426-5192.

Comments Due: 5 p.m. ET 5/17/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2018.
Kimberly D. Bose,
Secretary.

[FR Doc. 2018-09249 Filed 5-1-18; 8:45 am]

BILLING CODE 6717-01-P